DEPARTMENT OF COMMERCE

National Oceanic and Atmospheric Administration

RIN 0648-XF258

Endangered and Threatened Species; Take of Anadromous Fish

AGENCY: National Marine Fisheries Service (NMFS), National Oceanic and Atmospheric Administration (NOAA), Commerce.

ACTION: Notice; availability of hatchery plans and request for comment.

SUMMARY: Notice is hereby given that the Oregon Department of Fish and Wildlife (ODFW) has submitted two Hatchery and Genetic Management Plans (HGMPs), and the Washington Department of Fish and Wildlife (WDFW) has submitted eight HGMPs, pursuant to the protective regulations promulgated for Pacific salmon and steelhead under the Endangered Species Act (ESA). The two ODFW HGMPs describe hatchery programs rearing chum salmon in Big Creek and steelhead in the Clackamas River subbasin within the State of Oregon. The eight WDFW HGMPs describe hatchery programs that release fall chinook salmon, coho salmon, and winter and summer steelhead into Washington tributaries of the Columbia River below Bonneville Dam. This document serves to notify the public of the availability of the HGMPs for comment prior to a decision by NMFS whether to approve the proposed hatchery programs.

DATES: Comments must be received at the appropriate address or fax number (see ADDRESSES) no later than 5:00 p.m. Pacific time on April 12, 2017.

ADDRESSES: Written comments on the application should be addressed to the NMFS Sustainable Fisheries Division, 1201 N.E. Lloyd Boulevard, Suite 1100, Portland, OR 97232, or faxed to 503-872-2737. Comments may be submitted by email to: LowerColumbiaHatcheries.wcr@noaa.gov. Include in the subject line of the email comment the following identifier: Comments on ODFW's and WDFWs hatchery plans.

FOR FURTHER INFORMATION CONTACT: Rich Turner, at phone number: (503) 736-4737, or email: Rich.Turner@noaa.gov.

SUPPLEMENTARY INFORMATION:

Species Covered in This Notice

Chinook salmon (Oncorhynchus tshawytscha): Threatened, naturally produced and artificially propagated Lower Columbia River.

Chum salmon (O. keta): Threatened, naturally produced and artificially propagated Columbia River.

Coho salmon (O. kisutch): Threatened, naturally produced and artificially propagated Lower Columbia River.

Steelhead (O. mykiss): Threatened, naturally produced and artificially propagated Lower Columbia River.

Pacific eulachon (Thaleichthys pacificus): Threatened, naturally produced southern distinct population segment.

ODFW has submitted to NMFS two HGMPs describing hatchery programs that release chum salmon into Big Creek and adjacent tributaries and winter steelhead into the Clackamas River in a manner that is intended to comply with requirements of the ESA under limit 5 of the 4(d) Rule. WDFW has submitted to NMFS eight HGMPs describing hatchery programs that release fall Chinook salmon, coho salmon, and winter and summer steelhead into Washington tributaries of the Columbia River below Bonneville Dam in a manner that is intended to comply with requirements of the ESA under limit 5 of the 4(d) Rule. The ODFW HGMPs specify the operations of two hatchery programs rearing chum salmon in Big Creek and steelhead in the Clackamas River subbasins within the State of Oregon. The WDFW HGMPs specify the operations of eight hatchery programs—two programs rearing fall Chinook salmon in the North Fork Toutle River and the Washougal River, two programs rearing winter and summer steelhead in the Kalama River, and four programs rearing coho salmon in the Grays River, Elochoman River, North Fork Toutle River, and the Washougal River. The Elochoman River program is a new program while the other programs are currently ongoing.

The programs are designed to meet mitigation responsibilities related to impacts from development in Columbia River Basin by providing hatchery fish to support reintroduction of chum salmon, recovery of fall Chinook salmon and coho salmon, and to provide fishing opportunities for fall Chinook salmon, coho salmon, winter steelhead, and summer steelhead while minimizing potential risks to natural-origin Lower Columbia River Chinook salmon, coho salmon, and steelhead populations, consistent with NMFS' Lower Columbia River Salmon and Steelhead ESA Recovery Plan.

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment.

Authority

Under section 4 of the ESA, the Secretary of Commerce is required to adopt such regulations as he deems necessary and advisable for the conservation of species listed as threatened. The ESA salmon and steelhead 4(d) rule (65 FR 42422; July 10, 2000, as updated in 70 FR 37160; June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Angela Somma,
Chief, Endangered Species Division, Office of Protected Resources, National Marine Fisheries Service.

[FR Doc. 2017-04840 Filed 3-10-17; 8:45 am]

BILLING CODE 3510-22-P